DEPARTMENT OF TRANSPORTATION

Federal Transit Administration

Notice To Reestablish the Transit Advisory Committee for Safety Charter

AGENCY: Federal Transit Administration, Department of Transportation.

ACTION: Notice of intent to reestablish the charter for the Transit Advisory Committee for Safety.

SUMMARY: The Federal Transit Administration (FTA) announces the intent to reestablish the Transit Advisory Committee for Safety (TRACS). The previous TRACS charter expired on September 12, 2020. The U.S. Department of Transportation and FTA are committed to ensuring the safety of the Nation's public transportation systems and reducing the safety risk to both riders and transit workers. Accordingly, the Secretary of Transportation (Secretary) has determined that reestablishing TRACS is necessary and in the public interest.

DATES: This charter will be effective for two years from the date it is filed with Congress.

FOR FURTHER INFORMATION CONTACT: Joseph DeLorenzo, TRACS Designated Federal Officer, Associate Administrator, FTA Office of Transit Safety and Oversight, (202) 366-1783, Joseph.DeLorenzo@dot.gov; or Bridget Zamperini, TRACS Program Manager, FTA Office of Transit Safety and Oversight, TRACS@dot.gov.

SUPPLEMENTARY INFORMATION: This notice announces the intent of the Secretary to reestablish TRACS as a Federal Advisory Committee in accordance with the Federal Advisory Committee Act (Pub. L. 92-463, 5 U.S.C. App. 2) to provide information, advice, and recommendations to the Secretary and the FTA Administrator on matters relating to the safety of public transportation systems. TRACS will be tasked with providing advice and recommendations on improvements and innovations in transit safety. TRACS will review current challenges and innovations in public transportation and provide recommendations that FTA can implement in support of safety in the public transportation sector.

This notice is provided in accordance with the Federal Advisory Committee Act. Please see the TRACS website for additional information at https://www.transit.dot.gov/regulations-and-guidance/safety/transit-advisory-committee-safety-tracs.

Nuria I. Fernandez,
Administrator.

[FR Doc. 2022-00685 Filed 1-14-22; 8:45 am]

BILLING CODE P